NATIONAL CAPITAL PLANNING COMMISSION

Notice of Intent To Prepare an Environmental Impact Statement for the Smithsonian Institution's South Mall Campus Master Plan

AGENCY: National Capital Planning Commission.

ACTION: Notice of intent to prepare an Environmental Impact Statement.

SUMMARY: Pursuant to the National Environmental Policy Act (NEPA) of 1970, as amended and implemented by the Council on Environmental, and in accordance with the Environmental Policies and Procedures adopted by the National Capital Planning Commission (NCPC), the NCPC announces its intent along with the Smithsonian Institution (SI), and in cooperation with the National Park Service (NPS), to prepare an Environmental Impact Statement (EIS). The EIS will provide a full and fair discussion of the potential environmental impacts resulting from implementation of SI's South Mall Campus Master Plan. NCPC will act as lead federal agency for NEPA compliance and SI is the project owner, sponsoring the preparation of the EIS. Although SI is not a “federal agency” within the meaning of NEPA and CEQ Regulations, SI works with federal agencies on NEPA compliance when, as here, an SI project requires federal agency approval.

The South Mall Campus Master Plan (Master Plan) will evaluate opportunities to: Better align Smithsonian facilities on the South Mall Campus with SI's mission; increase public access to the museums and gardens; replace and upgrade aging building systems; upgrade security systems campus wide; rehabilitate and restore historic buildings; provide seismic retrofitting; consolidate and upgrade loading functions; enhance public space; and increase the visitor services provided in the area. The Master Plan will revitalize the South Mall Campus by interconnecting programs and services both above- and below-grade; and, by improving physical access for all through enhanced circulation, way finding, and program visibility. These improvements will provide visitors and staff with facilities, amenities, and educational experiences expected of a world class institution.

DATES: The Scoping Period shall run February 22, 2016.

ADDRESSES: Electronic Comments may be submitted at commentsonsouthcampus@si.edu.

FOR FURTHER INFORMATION CONTACT: Matthew Flis, Senior Urban Designer, National Capital Planning Commission, Urban Design and Plan Review, 401 9th Street NW., Washington, DC 20004, Phone 202-482-7236; or Michelle Spofford, Senior Planning Manager, Smithsonian Institution, Office of Planning Design and Construction, Facilities Master Planning, 600 Maryland Avenue SW., Suite 501, PO Box 37012, MRC 511, Washington, DC 20013-7012, Phone: 202-633-6558.

SUPPLEMENTARY INFORMATION: NCPC and SI previously conducted scoping For an Environmental Assessment (EA) of the Master Plan from December 16, 2014 through January 30, 2015. As part of this process, NCPC and SI held a public scoping meeting on December 16, 2014 and received written comments from local and federal agencies, interested organizations, and the public. Based on the information obtained and additional coordination with local and federal agencies, NCPC and SI have determined that preparation of an EIS is warranted.

Topics for environmental analysis identified through the scoping process include: Historic resources; visual resources; transportation; public utilities; land use; social and economic issues; visitor use; and physical and biological resources, such as air quality, water quality, and climate change.

All private parties, Federal and local agencies, and interested organizations having an interest in the project are invited to comment. All previously submitted comments from the EA scoping period are documented in the administrative record and will be used to inform the Draft EIS; only new issues and concerns need to be submitted at this time. During this scoping period, no public scoping meeting will be held.

All new and relevant environmental information, or additional comments on any issues that may be associated with the proposed project, should be sent to the address or email address below. Before including your address, phone number, email address, or other personal identifying information in your comment, you should be aware that your entire comment, including your personal identifying information, may be made publically available at any time. While you can ask us in your comment to withhold your personal identifying information from public review, we cannot guarantee that we will be able to do so.

Information related to the project and public involvement opportunities for the draft EIS will be provided at the project's Web site: http://www.southmallcampus.si.edu/.

Authority: 40 CFR 1501.7.

Dated: January 13, 2016.
Anne R. Schuyler,
General Counsel.

[FR Doc. 2016-01162 Filed 1-20-16; 8:45 am]

BILLING CODE 7520-01-P